NUCLEAR REGULATORY COMMISSION

[NRC-2013-0047]

Compendium of Analyses To Investigate Select Level 1 Probabilistic Risk Assessment End-State Definition and Success Criteria Modeling Issues

AGENCY: Nuclear Regulatory Commission.

ACTION: Draft report for comment.

SUMMARY: The U.S. Nuclear Regulatory Commission (NRC) has issued for public comment a document entitled: Compendium of Analyses to Investigate Select Level 1 Probabilistic Risk Assessment End-State Definition and Success Criteria Modeling Issues—Draft Report for Comment.

DATES: Please submit comments by May 15, 2013. Comments received after this date will be considered if it is practical to do so, but the NRC staff is able to ensure consideration only for comments received on or before this date.

ADDRESSES: You may access information and comment submissions related to this document, which the NRC possesses and is publically available, by searching on http://www.regulations.gov under Docket ID NRC-2013-0047. You may submit comments by any of the following methods:

• Federal Rulemaking Web site: Go to http://www.regulations.gov and search for Docket ID NRC-2013-0047. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0047 when contacting the NRC about the availability of information regarding this document. You may access information related to this document by any of the following methods:

• Federal Rulemaking Web site: Go to http://www.regulations.gov and search for Docket ID NRC-2013-0047.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The subject report is available electronically under ADAMS Accession Number ML13060A491.

• NRC's PDR: You may examine and purchase copies of public documents at the NRC's PDR, Room O1-F21, One White Flint North, 11555 Rockville Pike, Rockville, Maryland 20852.

B. Submitting Comments

Please include Docket ID NRC-2013-0047 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

FOR FURTHER INFORMATION CONTACT: Donald Helton, Division of Risk Analysis, Office of Nuclear Regulatory Research, U.S. Nuclear Regulatory Commission, Washington, DC 20555-0001. Telephone: 301-415-7000, email: Donald.Helton@nrc.gov.

SUPPLEMENTARY INFORMATION: This report, “Compendium of Analyses to Investigate Select Level 1 Probabilistic Risk Assessment End-State Definition and Success Criteria Modeling Issues,” augments the existing collection of contemporary Level 1 PRA success criteria analyses for the purpose of (i) Maintaining and enhancing the Standardized Plant Analysis Risk (SPAR) models being developed by the NRC; (ii) supporting the NRC's risk analysts when addressing specific issues in the Accident Sequence Precursor (ASP) program and the Significance Determination Process (SDP); and (iii) informing other ongoing and planned initiatives.

Dated at Rockville, Maryland, this 4th day of March 2013.
For the Nuclear Regulatory Commission.
Kevin A. Coyne,
Chief, Probabilistic Risk Assessment Branch, Division of Risk Analysis, Office of Nuclear Regulatory Research.

[FR Doc. 2013-05618 Filed 3-11-13; 8:45 am]

BILLING CODE 7590-01-P